DEPARTMENT OF HEALTH AND HUMAN SERVICES

Centers for Disease Control and Prevention

Notice of Award of a Single-Source Cooperative Agreement to Fund India Council of Medical Research (IMCR) and ICMR Institutions: National Institute of Virology (NIV), Pune and National Institute of Epidemiology (NIE), Chennai; Correction

AGENCY: Centers for Disease Control and Prevention (CDC), Department of Health and Human Services (HHS).

ACTION: Notice; correction.

SUMMARY: The CDC published a document in the Federal Register of June 15, 2022, concerning a Notice of Award. The document contained incorrect funding amounts.

FOR FURTHER INFORMATION CONTACT: Shana Eatman, Centers for Disease Control and Prevention, 1825 Century Center, MS V18-3, Atlanta, GA 30345, Telephone: 770-488-3933, E-Mail: DGHPNOFOs@cdc.gov

SUPPLEMENTARY INFORMATION:

Correction

In the Federal Register of June 15, 2022, in FR Doc. 2022-12850, on page 36133, in the first column, in the SUMMARY, correct to read:

SUMMARY:The Centers for Disease Control and Prevention (CDC), located within the Department of Health and Human Services (HHS), announces three (3) separate awards within the government of India to include the Indian Council of Medical Research (ICMR) New Delhi, National Institute of Virology (NIV) and National Institute of Epidemiology (NIE). For ICMR New Delhi, the award is for approximately $8,165,000 with an expected total funding of approximately $24,495,000. For NIV, the award is for approximately $8,165,000 with an expected total funding of approximately $24,495,000. For NIE, the award is for approximately $8,165,000 with an expected total funding of approximately $24,495,000. The total 5-year period amount for the three recipients is $122,475,000. The awards will accelerate progress toward an India safe and secure from infectious disease threats through ICMR institutions' focus on emerging and re-emerging pathogens, including detecting, and controlling zoonotic disease outbreaks through a One Health approach; evaluating vaccine safety monitoring systems; capacitating the public health workforce in field epidemiology and outbreak response; and combating antimicrobial resistance.

In the Federal Register of June 15, 2022, in FR Doc. 2022-12850, on page 36133, in the second column, Amount of Award, correct to read:

Amount of Award: $8,165,000 in Federal Fiscal Year (FFY) 2022 funds per institution, with a total estimated $122,475,000 for the 5-year period of performance, subject to availability of funds. Please note, the NOFO funding strategy is as follows: $660,000 for Core Component 1, and $7,505,000 in Approved but Unfunded (ABU) Components for each recipient.

Dated: June 28, 2022.
Terrance Perry,
Chief Grants Management Officer, Centers for Disease Control and Prevention.

[FR Doc. 2022-14139 Filed 6-30-22; 8:45 am]

BILLING CODE 4163-18-P